DEPARTMENT OF VETERANS AFFAIRS

[OMB Control No. 2900-0554]

Agency Information Collection Activity: VA Homeless Providers Grant and Per Diem Program

AGENCY: Veterans Health Administration, Department of Veterans Affairs.

ACTION: Notice.

SUMMARY: Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before June 3, 2024.

ADDRESSES: Submit written comments on the collection of information through Federal Docket Management System (FDMS) at www.Regulations.gov or to Grant Bennett, Office of Regulations, Appeals, and Policy (10BRAP), Department of Veterans Affairs, 810 Vermont Avenue NW, Washington, DC 20420 or email to Grant.Bennett@va.gov. Please refer to “OMB Control No. 2900-0554” in any correspondence. During the comment period, comments may be viewed online through FDMS.

FOR FURTHER INFORMATION CONTACT: Dorothy Glasgow, Office of Enterprise and Integration, Data Governance Analytics (008), 810 Vermont Avenue NW, Washington, DC 20420, (202) 461-1084 or email dorothy.glasgow@va.gov. Please refer to “OMB Control No. 2900-0554” in any correspondence.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: VA Homeless Providers Grant and Per Diem Program.

OMB Control Number: 2900-0554.

Type of Review: Revision of a currently approved collection.

Abstract: Public Law 109-461 provided permanent authority for VA's Homeless Providers Grant and Per Diem (GPD) Program for homeless Veterans. The categories of grants include per diem for non-capital grants, special needs grants, and case management grants. The program will not be awarding capital grants in the coming years. This factor, along with historical program data on the actual number of applications received, has resulted in a decrease in the anticipated number of annual grant applications and associated annual burden hours. There are no changes to the information being collected.

Funds appropriated to the Department of Veterans Affairs (VA) for this program are expected to be significantly less than the total amount requested by applicants. Therefore, information must be collected to determine which applicants are eligible and to prioritize applications for determining who will be awarded funds. VA does not require applicants to use a VA Form to respond to the collection of information. Rather, VA requires applicants to respond to the collection of information as published in the Notice of Funding Opportunity (NOFO) in standard business format, and they may use the Federal-wide Standard Forms from the SF-424 family of forms. VA provides the outline for the collection in the NOFO and uses the standard business format to evaluate applicants for all the grant programs under the statutory authority for VA to make grants.

Affected Public: State, Local, and Tribal Governments.

Estimated Annual Burden: 10,000 hours.

Estimated Average Burden per Respondent: 20 hours.

Frequency of Response: Once annually.

Estimated Number of Respondents: 500.

By direction of the Secretary:
Dorothy Glasgow,
VA PRA Clearance Officer, (Alt.), Office of Enterprise and Integration/Data Governance Analytics, Department of Veterans Affairs.

[FR Doc. 2024-07130 Filed 4-3-24; 8:45 am]

BILLING CODE 8320-01-P